DEPARTMENT OF COMMERCE

National Oceanic and Atmospheric Administration

RIN 0648-XD658

North Pacific Fishery Management Council; Public Meeting; Correction

AGENCY: National Marine Fisheries Service (NMFS), National Oceanic and Atmospheric Administration (NOAA), Commerce.

ACTION: Notice of correction of a public meeting.

SUMMARY: The North Pacific Fishery Management Council's Pacific Northwest Crab Industry Advisory Committee (PNCIAC) will meet in Seattle, WA. The meeting is open to the public.

DATES: The meeting will be held on January 12, 2015, from 9 a.m. until 12 noon.

ADDRESSES: The meeting will be held at the Fishermen's Terminal, Norby conference room, 3919 18th Avenue W., Seattle, WA 98199.

Council address: North Pacific Fishery Management Council, 605 W. 4th Avenue, Suite 306, Anchorage, AK 99501-2252.

FOR FURTHER INFORMATION CONTACT: Dr. Diana Stram, Council Staff; telephone: (907) 271-2809 or Lance Farr, (206) 669-7163.

SUPPLEMENTARY INFORMATION: The original notice published in the Federal Register on December 12, 2014 (79 FR 73884). This notice serves a correction to that notice and is being re-published in its entirety due to a date change and an addition to the agenda.

The Committee will discuss issues to recommend for the 10-year review of the Crab Rationalization Program and discuss extending the Western Baridi fishing season.

Special Accommodations

This meeting is physically accessible to people with disabilities. Requests for sign language interpretation or other auxiliary aids should be directed to Gail Bendixen at (907) 271-2809 at least 7 working days prior to the meeting date.

Dated: December 22, 2014.
Tracey L. Thompson,
Acting Deputy Director, Office of Sustainable Fisheries, National Marine Fisheries Service.

[FR Doc. 2014-30304 Filed 12-24-14; 8:45 am]

BILLING CODE 3510-22-P